DEPARTMENT OF TRANSPORTATION

Office of the Secretary

In the Matter of the Continuing Fitness of Boston-Maine Airways Corp.

AGENCY: Department of Transportation.

ACTION: Notice of Order to Show Cause (Order 2008-2-3) Dockets DOT-OST-2000-7668, DOT-OST-2003-14985, and DOT-OST-2004-19919.

SUMMARY: The Department of Transportation is directing all interested persons to show cause why it should not issue an order finding that Boston-Maine Airways, Corp, is not fit, willing, and able, to provide air transportation as a U.S. certificated air carrier.

DATES: Persons wishing to file objections should do so no later than March 3, 2008.

ADDRESSES: Objections and answers to objections should be filed in Dockets DOT-OST-2000-7668, DOT-OST-2003-14985, and DOT-OST-2004-19919 and addressed to Docket Management Facility, U.S. Department of Transportation, 1200 New Jersey Ave SE., West Building, Room W12-140, Washington, DC 20590, and should be served upon the parties listed in Attachment B to the order.

FOR FURTHER INFORMATION CONTACT: Vanessa R. Balgobin, Air Carrier Fitness Division, U.S. Department of Transportation, 1200 New Jersey Ave SE., West Building, Room W86-463, Washington, DC 20590, (202) 366-9721.

Dated: February 1, 2008.
Michael W. Reynolds,
Acting Assistant Secretary for Aviation and International Affairs.

[FR Doc. E8-2275 Filed 2-6-08; 8:45 am]

BILLING CODE 4910-9X-P